DEPARTMENT OF DEFENSE

Office of the Secretary

[Docket ID: DOD-2008-OS-0150]

Privacy Act of 1974; Systems of Records

AGENCY: Defense Finance and Accounting Service, DoD.

ACTION: Notice to Alter an Existing System of Records.

SUMMARY: The Defense Finance and Accounting Service (DFAS) is proposing to alter a system of records notice subject to the Privacy Act of 1974, (5 U.S.C. 552a), as amended.

DATES: This Action will be effective without further notice on January 12, 2009 unless comments are received that would result in a contrary determination.

ADDRESSES: Send comments to the FOIA/PA Program Manager, Corporate Communications and Legislative Liaison, Defense Finance and Accounting Service, 8899 E. 56th St., Indianapolis, IN 46249-0150.

FOR FURTHER INFORMATION CONTACT: Ms. Linda Krabbenhoft at (303) 589-3510.

SUPPLEMENTARY INFORMATION: The Defense Finance and Accounting Service systems of records notices subject to the Privacy Act of 1974 (5 U.S.C. 552a), as amended, have been published in the Federal Register and are available from the address above.

The proposed system report, as required by 5 U.S.C. 552a(r) of the Privacy Act of 1974, as amended, was submitted on December 4, 2008, to the House Committee on Government Reform, the Senate Committee on Homeland Security and Governmental Affairs, and the Office of Management and Budget (OMB) pursuant to paragraph 4c of Appendix I to OMB Circular No. A-130, `Federal Agency Responsibilities for Maintaining Records About Individuals,' dated December 12, 2000, 65 FR 239.

Dated: December 8, 2008.
Morgan E. Frazier,
Alternate OSD Federal Register Liaison Officer, Department of Defense.

T7335

System name:

Defense Civilian Pay System (DCPS) (September 19, 2005, 70 FR 54902).

Changes:

* * * * *

System location:

Delete entry and replace with “Defense Finance and Accounting Service, Civilian Pay Payroll Office, 8899 E. 56th St., Indianapolis, IN 46249-0002.

Defense Finance and Accounting Service, Civilian Pay Payroll Office, 1240 E 9th St., Cleveland, OH 44199-2055.

Defense Finance and Accounting Service Pensacola, 250 Raby Avenue, Building 801, Pensacola, FL 32509-5128.

Defense Information Systems Agency, Defense Enterprise Computing Center (DISA/DECC), 5450 Carlisle Pike, Building 309, Mechanicsburg, PA 17055-0975.”

Categories of individuals covered by the system:

Delete entry and replace with “All DoD civilian employees paid by appropriated funds and employees of the Executive Office of the President and non-DoD agencies to include Department of Energy, Department of Health and Human Services, Broadcast Board of Governors, Department of Veteran's Affairs and the Environmental Protection Agency who are paid by the Defense Finance and Accounting Service's consolidated civilian payroll offices.”

Categories of records in the system:

Delete entry and replace with “Individual's full name, Social Security Number (SSN), address, telephone number and pay and leave records; source documents for posting of time and leave attendance; individual retirement deduction records, source documents, and control files; wage and separation information files; health benefit records; income tax withholding records; allowance and differential eligibility files, such as, but not limited to clothing allowances and night rate differentials; withholding and deduction authorization files, such as, but not limited to federal income tax withholding, insurance and retirement deductions; accounting documents files, input data posting media, including personnel actions affecting pay; accounting and statistical reports and computer edit listings; claims and waivers affecting pay; control logs and collection/disbursement vouchers; listings for administrative purposes, such as, but not limited to health insurance, life insurance, bonds, locator files, and checks to financial institutions; correspondence with the civilian personnel office, system access request forms, dependents, attorneys, survivors, insurance companies, financial institutions, and other governmental agencies; leave and earnings statements; separation documents; official correspondence; federal, state, and city tax reports and tapes; forms covering pay changes and deductions; and documentation pertaining to garnishment of wages.”

* * * * *

Purpose(s):

Delete and replace with “The records are used to accurately compute individual employees pay entitlements, withhold required and authorized deductions, and issue payments for amounts due. Output products are forwarded as required to the subject matter areas to ensure accurate accounting and recording of pay to civilian employees.

These records and related products are also used to verify and balance all payments, deductions, and contributions with the DD Form 592 (Payroll for Personal Services Certification and Summary) in the DFAS civilian pay office and other applicable subject matter areas, and to report this information to the recipients and other government and nongovernment agencies.

Records and system access request forms are also used for records input/modifications, and extraction or compilation of data and reports for management studies and statistical analyses for use internally or externally as required by DoD or other government agencies.

All records in this system are subject to use in authorized computer matching programs within the Department of Defense and with other Federal agencies or non-Federal agencies as regulated by the Privacy Act of 1974, as amended, (5 U.S.C. 552a).”

* * * * *

Storage:

Delete entry and replace with “Paper records and on electronic storage media.”

Retrievability:

Delete entry and replace with “Retrieved by name and/or Social Security Number (SSN).”

Safeguards:

Delete entry and replace with “Records are stored in an office building protected by guards, controlled screening, use of visitor registers, electronic access, and/or locks. Access to records is limited to individuals who are properly screened and cleared on a need to know basis in the performance of their duties. Passwords and digital signatures are used to control access to the system data, and procedures are in place to deter and detect browsing and unauthorized access. Physical and electronic access are limited to persons responsible for servicing and authorized to use the system.”

* * * * *

System manager(s) and address:

Delete entry and replace with “Program Manager, Defense Finance and Accounting Service—Headquarters, ATTN: DFAS-HTSBA, 250 Raby Avenue, Building 801, Pensacola, FL 32509-5128.”

Notification procedure:

Delete entry and replace with “Individuals seeking to determine whether information about themselves is contained in this system of records should address written inquires to the Defense Finance and Accounting Services, Freedom of Information/Privacy Act Program Manager, Corporate Communication and Legislative Liaison, 8889 E. 56th Street, Indianapolis, IN 46249-0150.

Individual should furnish full name, Social Security Number (SSN), current address, and telephone number.”

Record access procedures:

Delete entry and replace with “Individuals seeking access to information about themselves contained in this system of records should address written inquiries to the Defense Finance and Accounting Services, Freedom of Information/Privacy Act Program Manager, Corporate Communication and Legislative Liaison, 8889 E. 56th Street, Indianapolis, IN 46249-0150.

Individuals should provide full name, Social Security Number (SSN), or other information verifiable from the record itself.”

Contesting record procedures:

Delete entry and replace with “The DFAS rules for accessing records, for contesting contents and appealing initial agency determinations are published in DFAS Regulation 5400.11-R; 32 CFR part 324; or may be obtained from the Freedom of Information/Privacy Act Program Manager, Corporate Communications and Legislative Liaison, 8889 E. 56th Street, Indianapolis, IN 46249-0150.”

Record source categories:

Delete entry and replace with “Information is obtained from the individual, previous employers, financial institutions, medical institutions, automated systems interfaces, state or local governments, and from other DoD components and other Federal agencies such as, but not limited to, Social Security Administration, Internal Revenue Service, state revenue departments, State Department, and Department of Defense components (including the Department of the Air Force, Army, or Navy, or Defense agencies); correspondence with attorneys, dependents, survivors, or guardians may also furnish data for the system.”

* * * * *

T7335

System name:

Defense Civilian Pay System (DCPS).

System location:

Defense Finance and Accounting Service, Civilian Pay Payroll Office, 8899 E. 56th St., Indianapolis, IN 46249-0002.

Defense Finance and Accounting Service, Civilian Pay Payroll Office, 1240 E 9th St., Cleveland, OH 44199-2055.

Defense Finance and Accounting Service Pensacola, 250 Raby Avenue, Building 801, Pensacola, FL 32509-5128.

Defense Information Systems Agency, Defense Enterprise Computing Center (DISA/DECC), 5450 Carlisle Pike, Building 309, Mechanicsburg, PA 17055-0975.

Categories of individuals covered by the system:

All DoD civilian employees paid by appropriated funds and employees of the Executive Office of the President and non-DoD agencies to include Department of Energy, Department of Health and Human Services, Broadcast Board of Governors, Department of Veteran's Affairs and the Environmental Protection Agency who are paid by the Defense Finance and Accounting Service's consolidated civilian payroll offices.

Categories of records in the system:

Individual's full name, Social Security Number, address, telephone number and pay and leave records; source documents for posting of time and leave attendance; individual retirement deduction records, source documents, and control files; wage and separation information files; health benefit records; income tax withholding records; allowance and differential eligibility files, such as, but not limited to clothing allowances and night rate differentials; withholding and deduction authorization files, such as, but not limited to federal income tax withholding, insurance and retirement deductions; accounting documents files, input data posting media, including personnel actions affecting pay; accounting and statistical reports and computer edit listings; claims and waivers affecting pay; control logs and collection/disbursement vouchers; listings for administrative purposes, such as, but not limited to health insurance, life insurance, bonds, locator files, and checks to financial institutions; correspondence with the civilian personnel office, system access request forms, dependents, attorneys, survivors, insurance companies, financial institutions, and other governmental agencies; leave and earnings statements; separation documents; official correspondence; federal, state, and city tax reports and tapes; forms covering pay changes and deductions; and documentation pertaining to garnishment of wages.

Authority for maintenance of the system:

5 U.S.C. 301, Departmental Regulations; 5 U.S.C. Chapter 53, 55, and 81; and E.O. 9397 (SSN).

Purpose(s):

The records are used to accurately compute individual employees pay entitlements, withhold required and authorized deductions, and issue payments for amounts due. Output products are forwarded as required to the subject matter areas to ensure accurate accounting and recording of pay to civilian employees.

These records and related products are also used to verify and balance all payments, deductions, and contributions with the DD Form 592 (Payroll for Personal Services Certification and Summary) in the DFAS civilian pay office and other applicable subject matter areas, and to report this information to the recipients and other government and non-government agencies.

Records and system access request forms are also used for record input/modifications, and extraction or compilation of data and reports for management studies and statistical analyses for use internally or externally as required by DoD or other government agencies.

All records in this system are subject to use in authorized computer matching programs within the Department of Defense and with other Federal agencies or non-Federal agencies as regulated by the Privacy Act of 1974, as amended, (5 U.S.C. 552a).

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To Federal Reserve Banks under procedures specified in 31 CFR part 210 for health benefit carriers to ensure proper credit for employee-authorized health benefit deductions;

To officials of labor organizations recognized under E.O. 11491 and E.O. 11636, as amended, when relevant and necessary to their duties of exclusive representation concerning personnel policies, practices, and matters affecting working conditions (including disclosure of reasons for non-deduction of dues, if applicable);

To the U.S. Treasury Department to maintain cash accountability;

To the Internal Revenue Service to record withholding and social security information;

To the Bureau of Employment Compensation to process disability claims;

To the Social Security Administration and Office of Personnel Management to credit the employee's account for Federal Insurance Contributions Act or Civil Service Retirement withheld;

To the National Finance Center, Office of Thrift Savings Plan for participating employees;

To state revenue departments to credit employee's state tax withholding;

To state employment agencies which require wage information to determine eligibility for unemployment compensation benefits of former employees;

To city revenue departments of appropriate cities to credit employees for city tax withheld;

To any agency or component thereof that needs the information for proper accounting of funds, such as, but not limited to the Office of Personnel Management to assist in resolving complaints, grievances, etc. and to compute Civil Service Retirement annuity.

To Federal, State, and local agencies for the purpose of conducting computer matching programs as regulated by the Privacy Act of 1974, as amended (5 U.S.C. 552a).

The `Blanket Routine Uses' published at the beginning of the DFAS compilation of systems of records notices also apply to this system.

Disclosure to consumer reporting agencies:

Disclosures pursuant to 5 U.S.C. 552a(b)(12) may be made from this system to `consumer reporting agencies' as defined in the Fair Credit Reporting Act (15 U.S.C. 1681a(f)) or the Federal Claims Collection Act of 1966 (31 U.S.C. 3701(a)(3) ). The purpose of this disclosure is to aid in the collection of outstanding debts owed to the Federal government; typically to provide an incentive for debtors to repay delinquent Federal government debts by making these debts part of their credit records.

The disclosure is limited to information necessary to establish the identity of the individual, including name, address, and taxpayer identification number (Social Security Number); the amount, status, and history of the claim; and the agency or program under which the claim arose for the sole purpose of allowing the consumer reporting agency to prepare a commercial credit report.

Policies and practices for storing, retrieving, accessing, retaining, and disposing of records in the system:

Storage:

Paper records and on electronic storage media.

Retrievability:

Retrieved by name and/or Social Security Number (SSN)

Safeguards:

Records are stored in an office building protected by guards, controlled screening, use of visitor registers, electronic access, and/or locks. Access to records is limited to individuals who are properly screened and cleared on a need to know basis in the performance of their duties. Passwords and digital signatures are used to control access to the system data, and procedures are in place to deter and detect browsing and unauthorized access. Physical and electronic access are limited to persons responsible for servicing and authorized to use the system.

Retention and disposal:

Records may be temporary in nature and destroyed when actions are completed, they are superseded, obsolete, or no longer needed. Other records may be cut off at the end of the payroll year and destroyed up to 6 years after cutoff or cutoff at the end of the payroll year and then sent to the National Personnel Records Center after 3 payroll years where they are retained for 56 years. Individual retirement records are cut off upon separation, transfer, retirement or death, and forwarded to the Office of Personnel Management.

System manager(s) and address:

Program Manager, Defense Finance and Accounting Service, ATTN: DFAS-HTSBA, 250 Raby Avenue, Building 801, Pensacola, FL 32509-5128.

Notification procedure:

Individuals seeking to determine whether information about themselves is contained in this system of records should address written inquiries to the Defense Finance and Accounting Service, Freedom of Information/Privacy Act Program Manager, Corporate Communications and Legislative Liaison, 8899 E. 56th Street, Indianapolis, IN 46249-0150.

Individual should furnish full name, Social Security Number, current address, and telephone number.

Record access procedures:

Individuals seeking access to information about themselves contained in this system of records should address written inquiries to the Defense Finance and Accounting Service, Freedom of Information/Privacy Act Program Manager, Corporate Communications and Legislative Liaison, 8899 E. 56th Street, Indianapolis, IN 46249-0150.

Individuals should provide full name, Social Security Number, or other information verifiable from the record itself.

Contesting record procedures:

The DFAS rules for accessing records, for contesting contents and appealing initial agency determinations are published in DFAS Regulation 5400.11-R; 32 CFR part 324; or may be obtained from the Freedom of Information/Privacy Act Program Manager, Defense Finance and Accounting Service, Freedom of Information/Privacy Act Program Manager, Corporate Communications and Legislative Liaison, 8899 E. 56th Street, Indianapolis, IN 46249-0150.

Record source categories:

Information is obtained from the individual, previous employers, financial institutions, medical institutions, automated systems interfaces, state or local governments, and from other DoD components and other Federal agencies such as, but not limited to, Social Security Administration, Internal Revenue Service, state revenue departments, State Department, and Department of Defense components (including the Department of the Air Force, Army, or Navy, or Defense agencies); correspondence with attorneys, dependents, survivors, or guardians may also furnish data for the system.

Exemptions claimed for the system:

None.

[FR Doc. E8-29404 Filed 12-11-08; 8:45 am]

BILLING CODE 5001-06-P